DEPARTMENT OF COMMERCE

International Trade Administration

University of Chicago Argonne LLC, et al.; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). On December 9, 2019, the Department of Commerce published a notice in the Federal Register requesting public comment on whether instruments of equivalent scientific value, for the purposes for which the instruments identified in the docket(s) below are intended to be used, are being manufactured in the United States. See Application(s) for Duty-Free Entry of Scientific Instruments, 84 FR 67257-58 (December 9, 2019) (Notice). We received no public comments. Related records can be viewed between 8:30 a.m. and 5:00 p.m. in Room 3720, U.S. Department of Commerce, 14th and Constitution Ave. NW, Washington, DC

Docket Number: 19-011. Applicant: University of Chicago Argonne LLC, Operator of Argonne National Laboratory, 9700 South Cass Avenue, Lemont, IL 60439-4873. Instrument: Q1 Magnets. Manufacturer: Danfysik A/S, Denmark. Intended Use: See Notice at 84 FR 67257-58, December 9, 2019. Comments: None received. Decision: Approved. We know of no instruments of equivalent scientific value to the foreign instruments described below, for such purposes as this is intended to be used, that were being manufactured in the United States at the time of order. Reasons: According to the applicant, the instrument is a component of a 4th generation synchrotron accelerator, i.e. the Advanced Photon Source Upgrade (APSU) accelerator, which is one of the most technologically complex machines in the world. APSU is a non-profit research facility that will provide ultra-bright, high-energy x-ray beams to more than 5000 (and growing) scientists from across the United States. APSU provides x-ray beams of a broad parameters that allows scientists to collect data in unprecedented detail and in short time frames. The research results users achieve through APS constantly make real and positive impact on our technologies, health, economy, and fundamental understandings of the materials that make up our world.

Docket Number: 19-014. Applicant: University of Chicago Argonne LLC, Operator of Argonne National Laboratory, 9700 South Cass Avenue, Lemont, IL 60439-4873. Instrument: Q2 Magnets. Manufacturer: SigmaPhi, France. Intended Use: See Notice at 84 FR 67257-58. Comments: None received. Decision: Approved. We know of no instruments of equivalent scientific value to the foreign instruments described below, for such purposes as this is intended to be used, that were being manufactured in the United States at the time of order. Reasons: According to the applicant, the instrument is a component of a 4th generation synchrotron accelerator, i.e., the Advanced Photon Source Upgrade (APSU) which will be used to study ultra-bright, high-energy x-ray beams to more than 5000 (and growing) scientists from across the United States. APSU provides x-ray beams of a broad parameters that allow scientists to collect data in unprecedented detail and in amazingly short time frames. The research results our users achieved through APS constantly make real and positive impact on our technologies, health, economy, and fundamental understandings of the materials that make up our world.

Dated: February 11, 2020.
Gregory W. Campbell,
Director, Subsidies Enforcement.

[FR Doc. 2020-03214 Filed 2-18-20; 8:45 am]

BILLING CODE 3510-DS-P